DEPARTMENT OF COMMERCE

National Oceanic and Atmospheric Administration

Proposed Information Collection; Comment Request; American Fisheries Act: Vessel and Processor Permits Applications

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 17, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Patsy A. Bearden, (907) 586-7008 or patsy.bearden@noaa.gov.

SUPPLEMENTARY INFORMATION:

I. Abstract

The American Fisheries Act (AFA) of 1998 established an allocation program for the pollock fishery of the Bering Sea and Aleutian Islands Management Area (BSAI). The purposes of the AFA are to tighten U.S. ownership standards that had been exploited under the Anti-Reflagging Act; to provide Alaska's BSAI pollock fleet the opportunity to conduct their fishery in a more rational manner; and to protect non-AFA participants in other fisheries. Reduced bycatch, higher utilization rates, increased economic returns, and improved safety are among the direct benefits of the AFA.

Under the AFA, only vessels and processors that met specific qualifying criteria are eligible to fish for and process pollock in the BSAI. The BSAI pollock quota is sub-allocated to groups of vessel owners who form fishing vessel cooperatives under the AFA. All pollock vessels and processors are required to have a valid AFA permit onboard the vessel or at the processing plant. The AFA vessel and processor permits have no expiration date and will remain valid indefinitely unless revoked by National Marine Fisheries Service (NMFS). With the exceptions of applications for inshore vessel cooperatives and for replacement vessels, the AFA permit program had a one-time application deadline of December 1, 2000. Inshore catcher vessel cooperatives must apply for an AFA permit annually, by December 1 for the following fishing year. Applications to replace lost or destroyed AFA vessels may be submitted to NMFS at any time.

II. Method of Collection

Respondents have a choice of either electronic or paper forms. Methods of submittal include e-mail of electronic forms, mail, and facsimile transmission of paper forms.

III. Data

OMB Control Number: 0648-0393.

Form Number: None.

Type of Review: Regular submission.

Affected Public: Individuals or households; business or other for-profit organizations.

Estimated Number of Respondents: 11.

Estimated Time per Response: 30 minutes for Application for AFA permit for replacement vessel; 30 minutes for Non-member inshore vessel contract fishing application; and 20 minutes for Application for AFA inshore catcher vessel cooperative permit.

Estimated Total Annual Burden Hours: 29 hours.

Estimated Total Annual Cost to Public: 0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 12, 2008.
Gwellnar Banks,
Management Analyst, Office of the Chief Information Officer.

[FR Doc. E8-29921 Filed 12-16-08; 8:45 am]

BILLING CODE 3510-22-P